DEPARTMENT OF TRANSPORTATION

Federal Aviation Administration

14 CFR Part 39

[Docket No. FAA-2006-26120; Directorate Identifier 2006-NM-184-AD; Amendment 39-15051; AD 2007-10-10]

RIN 2120-AA64

Airworthiness Directives; Airbus Model A300-600 Series Airplanes

AGENCY: Federal Aviation Administration (FAA), Department of Transportation (DOT).

ACTION: Final rule.

SUMMARY: The FAA is adopting a new airworthiness directive (AD) for all Airbus Model A300-600 series airplanes. This AD requires revising the Airworthiness Limitations section of the Instructions for Continued Airworthiness to incorporate new limitations for fuel tank systems. This AD results from fuel system reviews conducted by the manufacturer. We are issuing this AD to prevent the potential of ignition sources inside fuel tanks, which, in combination with flammable fuel vapors caused by latent failures, alterations, repairs, or maintenance actions, could result in fuel tank explosions and consequent loss of the airplane.

DATES: This AD becomes effective June 27, 2007.

The Director of the Federal Register approved the incorporation by reference of certain publications listed in the AD as of June 27, 2007.

ADDRESSES: You may examine the AD docket on the Internet at http://dms.dot.gov or in person at the Docket Management Facility, U.S. Department of Transportation, 400 Seventh Street, SW., Nassif Building, Room PL-401, Washington, DC.

Contact Airbus, 1 Rond Point Maurice Bellonte, 31707 Blagnac Cedex, France, for service information identified in this AD.

FOR FURTHER INFORMATION CONTACT: Tom Stafford, Aerospace Engineer, International Branch, ANM-116, FAA, Transport Airplane Directorate, 1601 Lind Avenue, SW., Renton, Washington 98057-3356; telephone (425) 227-1622; fax (425) 227-1149.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that would apply to all Airbus Model A300 B4-600, B4-600R, and F4-600R series airplanes and Model C4-605R Variant F airplanes (collectively called A300-600 series airplanes). That NPRM was published in the Federal Register on December 14, 2006 (71 FR 75145). That NPRM proposed to require revising the Airworthiness Limitations section (ALS) of the Instructions for Continued Airworthiness to incorporate new limitations for fuel tank systems.

Comments

We provided the public the opportunity to participate in the development of this AD. We have considered the comments received.

Request To Extend Compliance Time for Task 28-18-00-03-1

Airbus requests that we extend the compliance time for the initial accomplishment of Task 28-18-00-03-1, “Operational check of lo-level/underfull/calibration sensors,” from 34,000 total flight hours to 40,000 flight hours since first aircraft entry into service. Airbus states that it is reviewing all the European Aviation Safety Agency (EASA) airworthiness directives for fuel airworthiness limitations and has found a deviation in the compliance time from what the EASA and Airbus had intended to be a grace period for operators. Airbus also states that the EASA is considering further rulemaking to extend the compliance time.

We agree to extend the initial compliance time of Task 28-18-00-03-1. Therefore, we have revised paragraph (g)(1) of this AD to specify an initial compliance time of prior to the accumulation of 40,000 total flight hours. We have coordinated this change with the EASA. Further, we have also revised paragraph (f) of this AD to clarify the initial compliance time for all other tasks specified in Section 1, “Maintenance/Inspection Tasks,” of Airbus A300-600 Fuel Airworthiness Limitations, Document 95A.1929/05, Issue 1, dated December 19, 2005 (hereafter referred to as “Section 1 of Document 95A.1929/05”). The initial compliance time of those tasks starts from the later of the following times: (1) The effective date of this AD, or (2) the date of issuance of the original French standard airworthiness certificate or the date of issuance of the original French export certificate of airworthiness. We have also coordinated these compliance time changes with the EASA. Since the changes are relieving, the scope of this AD has not been expanded.

Request To Reference the Airplane Maintenance Manual (AMM)

FedEx requests that either Airbus revise Section 1 of Document 95A.1929/05, or we revise this AD to refer to the applicable sections of the Airbus A300-600 AMM or other service documents that describe the actions necessary to comply with this AD. As justification for its request, FedEx states that although Section 1 of Document 95A.1929/05 refers to maintenance tasks 28-18-00-01-1, 28-18-00-02-1, and 28-18-00-03-1, those tasks are not defined in the document.

We agree to identify the applicable sections of the Airbus A300-600 AMM necessary for accomplishing the tasks specified in Section 1 of Document 95A.1929/05. Airbus issued Operator Information Telex (OIT) SE 999.0076/06, dated June 20, 2006, to identify the applicable sections of the AMM. We have added Note 2 to this AD to reference that OIT.

Request To Extend Compliance Time for Incorporating Section 1

FedEx requests that we extend the compliance time for incorporating Section 1 of Document 95A.1929/05 into its maintenance program. FedEx states that it will have to develop, review, and approve inspection and maintenance documents, as well as have those documents approved by the FAA. FedEx further states that its experience has shown that accomplishing this requirement will take more time; therefore, FedEx requests that we extend the compliance time from 3 months to 6 months.

We disagree with extending the compliance time. The compliance time in this AD agrees with what the EASA mandated in airworthiness directive 2006-0201, dated July 11, 2006, to ensure the continued airworthiness of Model A300-600 series airplanes in the European Union. We accept the EASA's position that 3 months is an appropriate amount of time to update maintenance procedures. Additionally, we are aware that some operators have already updated their maintenance tasks and have done so within 3 months, regardless of fleet size. However, under the provisions of paragraph (j) of this AD, we may approve requests for adjustments to the compliance time if data are submitted to substantiate that such an adjustment would provide an acceptable level of safety. We have not changed this AD in this regard.

Request To Specify the Revision Level of the Referenced Maintenance Documents

FedEx requests that Airbus revise Section 2 of Airbus A300-600 Fuel Airworthiness Limitations, Document 95A.1929/05, Issue 1, dated December 19, 2005 (hereafter referred to as “Section 2 of Document 95A.1929/05”) to include revision levels for the referenced maintenance documents. As an alternative, FedEx proposes that we specify the appropriate revision levels in this AD. As justification, FedEx states that the maintenance documents referenced in Section 2 of Document 95A.1929/05 do not include the revision levels.

We disagree with revising this AD to refer to specific revision levels for the referenced maintenance documents. It is the responsibility of an operator to ensure that its internal documentation is amended to reflect the data contained in Section 2 of Document 95A.1929/05 and to include the appropriate text in the operator's FAA-approved maintenance manual. We have not changed this AD in this regard.

Request To Revise the Wording of the Requirements

FedEx states that instructing operators to “Revise the ALS of the Instructions for Continued Airworthiness” is confusing and does not clearly communicate what the requirements are. FedEx has proposed the following revision:

(1) Within 3 months, the operator's scheduled maintenance program must be revised to include the maintenance/inspection tasks given in Section 1 of Airbus document 95A.1929/05, and, (2) Within 12 months, the operator's maintenance documents listed in Section 2 of Airbus document 95A.1929/05 must be revised to the revision levels indicated. The Airbus manuals and revision levels listed in Section 2 include all the CDCCL information necessary for compliance with this AD.

We understand FedEx's comment and welcome any feedback that would improve the readability or usability of an AD. In this case, we do not agree with the proposed wording. The wording that was used represents a standard approach and has been used for many years. The intent is to have all airworthiness limitations, regardless of whether imposed by original type certification or by a later AD, located in one immediately recognizable document. In 1980, the FAA identified the Airworthiness Limitations section of the Instructions for Continued Airworthiness as the appropriate document. We consider that not having all airworthiness limitations in one document could lead to confusion as to what is or what is not a mandatory maintenance action as identified in Federal Aviation Regulation, part 25, Appendix H, section H25.4. This is the basis of our requirement to have each operator maintain a current copy of the Airworthiness Limitations section. Concerning FedEx's statement that the AD does not clearly communicate what the actual compliance requirements are, we infer that the commenter is wondering if, after revising its copy of the Airworthiness Limitation section, there are other required actions such as ensuring that the operator's maintenance program is updated to incorporate the actions specified in the revised Airworthiness Limitations. Ensuring that one's maintenance program and the actions of its maintenance personnel are in accordance with the Airworthiness Limitations is required, but not by the AD. 14 CFR 91.403(c) specifies that no person may operate an aircraft for which airworthiness limitations have been issued unless those limitations have been complied with. Therefore, there is no need to further expand the requirements of the AD beyond that which was proposed because section 91.403(c) already imposes the appropriate required action after the airworthiness limitations are revised. We have not changed this AD in this regard.

Changes to Language for Repetitive Intervals

In paragraph (f) of the NPRM, we stated that all tasks identified in Section 1 of Document 95A.1929/05 “* * * must be accomplished within the repetitive interval specified in Section 1 of Document 95A.1929/05 * * *.” We have revised paragraph (f) of this AD to more clearly state that “* * * the repetitive inspections must be accomplished thereafter at the intervals specified in Section 1 of Document 95A.1929/05 * * * .” In paragraph (g) of the NPRM, we stated that task 28-18-00-03-1 must be accomplished “within” the repetitive interval specified in Section 1 of Document 95A.1929/05. We have revised paragraph (g) of this AD to state that task 28-18-00-03-1 must be accomplished “at” the repetitive interval specified in Section 1 of Document 95A.1929/05.

Explanation of Change to Applicability

We have revised the applicability of this AD to identify model designations as published in the most recent type certificate data sheet for the affected models.

Clarification of Alternative Method of Compliance (AMOC) Paragraph

We have revised this action to clarify the appropriate procedure for notifying the principal inspector before using any approved AMOC on any airplane to which the AMOC applies.

Conclusion

We have carefully reviewed the available data, including the comments received, and determined that air safety and the public interest require adopting the AD with the changes described previously. We have determined that these changes will neither increase the economic burden on any operator nor increase the scope of the AD.

Costs of Compliance

This AD affects about 138 airplanes of U.S. registry. The required actions take about 2 work hours per airplane, at an average labor rate of $80 per work hour. Based on these figures, the estimated cost of the AD for U.S. operators is $22,080, or $160 per airplane.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by adding the following new airworthiness directive (AD):

2007-10-10 Airbus: Amendment 39-15051. Docket No. FAA-2006-26120; Directorate Identifier 2006-NM-184-AD.

Effective Date

(a) This AD becomes effective June 27, 2007.

Affected ADs

(b) None.

Applicability

(c) This AD applies to all Airbus Model A300-600 series airplanes, certificated in any category.

Note 1: This AD requires revisions to certain operator maintenance documents to include new inspections and critical design configuration control limitations (CDCCLs). Compliance with the operator maintenance documents is required by 14 CFR 91.403(c). For airplanes that have been previously modified, altered, or repaired in the areas addressed by these inspections and CDCCLs, the operator may not be able to accomplish the inspections and CDCCLs described in the revisions. In this situation, to comply with 14 CFR 91.403(c), the operator must request approval for an alternative method of compliance according to paragraph (j) of this AD. The request should include a description of changes to the required inspections and CDCCLs that will preserve the critical ignition source prevention feature of the affected fuel system.

Unsafe Condition

(d) This AD results from fuel system reviews conducted by the manufacturer. We are issuing this AD to prevent the potential of ignition sources inside fuel tanks, which, in combination with flammable fuel vapors caused by latent failures, alterations, repairs, or maintenance actions, could result in fuel tank explosions and consequent loss of the airplane.

Compliance

(e) You are responsible for having the actions required by this AD performed within the compliance times specified, unless the actions have already been done.

Revise Airworthiness Limitations Section (ALS) To Incorporate Fuel Maintenance and Inspection Tasks

(f) Within 3 months after the effective date of this AD, revise the ALS of the Instructions for Continued Airworthiness to incorporate Airbus A300-600 ALS Part 5—Fuel Airworthiness Limitations, dated May 31, 2006, as defined in Airbus A300-600 Fuel Airworthiness Limitations, Document 95A.1929/05, Issue 1, dated December 19, 2005 (approved by the European Aviation Safety Agency (EASA) on March 13, 2006), Section 1, “Maintenance/Inspection Tasks” (hereafter referred to as “Section 1 of Document 95A.1929/05”). For all tasks identified in Section 1 of Document 95A.1929/05, the initial compliance times start from the later of the times specified in paragraphs (f)(1) and (f)(2) of this AD, and the repetitive inspections must be accomplished thereafter at the intervals specified in Section 1 of Document 95A.1929/05, except as provided by paragraph (g) of this AD.

(1) The effective date of this AD.

(2) The date of issuance of the original French standard airworthiness certificate or the date of issuance of the original French export certificate of airworthiness.

Note 2: Airbus Operator Information Telex (OIT) SE 999.0076/06, dated June 20, 2006, identifies the applicable sections of the Airbus A300-600 airplane maintenance manual necessary for accomplishing the tasks specified in Section 1 of Document 95A.1929/05.

Initial Compliance Time for Task 28-18-00-03-1

(g) For Task 28-18-00-03-1, “Operational check of lo-level/underfull/calibration sensors,” identified in Section 1 of Document 95A.1929/05: The initial compliance time is the later of the times specified in paragraphs (g)(1) and (g)(2) of this AD. Thereafter, Task 28-18-00-03-1 must be accomplished at the repetitive interval specified in Section 1 of Document 95A.1929/05.

(1) Prior to the accumulation of 40,000 total flight hours.

(2) Within 72 months or 20,000 flight hours after the effective date of this AD, whichever occurs first.

Revise ALS To Incorporate CDCCLs

(h) Within 12 months after the effective date of this AD, revise the ALS of the Instructions for Continued Airworthiness to incorporate Airbus A300-600 ALS Part 5—Fuel Airworthiness Limitations, dated May 31, 2006, as defined in Airbus A300-600 Fuel Airworthiness Limitations, Document 95A.1929/05, Issue 1, dated December 19, 2005 (approved by the EASA on March 13, 2006), Section 2, “Critical Design Configuration Control Limitations.”

No Alternative Inspections, Inspection Intervals, or CDCCLs

(i) Except as provided by paragraph (j) of this AD: After accomplishing the actions specified in paragraphs (f) and (h) of this AD, no alternative inspections, inspection intervals, or CDCCLs may be used.

Alternative Methods of Compliance (AMOCs)

(j)(1) The Manager, International Branch, ANM-116, Transport Airplane Directorate, FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Related Information

(k) EASA airworthiness directive 2006-0201, dated July 11, 2006, also addresses the subject of this AD.

Material Incorporated by Reference

(l) You must use Airbus A300-600 ALS Part 5—Fuel Airworthiness Limitations, dated May 31, 2006; and Airbus A300-600 Fuel Airworthiness Limitations, Document 95A.1929/05, Issue 1, dated December 19, 2005; as applicable; to perform the actions that are required by this AD, unless the AD specifies otherwise. The Director of the Federal Register approved the incorporation by reference of these documents in accordance with 5 U.S.C. 552(a) and 1 CFR part 51. Contact Airbus, 1 Rond Point Maurice Bellonte, 31707 Blagnac Cedex, France, for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on May 7, 2007.
Stephen P. Boyd,
Acting Manager, Transport Airplane Directorate, Aircraft Certification Service.

[FR Doc. E7-9399 Filed 5-22-07; 8:45 am]

BILLING CODE 4910-13-P